DEPARTMENT OF DEFENSE

Department of the Army; Corps of Engineers

Intent To Prepare a Joint Environmental Impact Statement/Environmental Impact Report for the Dredged Material Management Plan Feasibility Study, Los Angeles County, CA

AGENCY: Department of the Army, Army Corps of Engineers, DoD.

ACTION: Notice of intent.

SUMMARY: The U.S. Army Corps of Engineers (Corps), the Port of Los Angeles, the City of Long Beach, and the County of Los Angeles propose to evaluate options for managing dredge materials in Los Angeles County.

DATES: A scoping meeting will be held on February 26, 2003, from 6:30 to 8:30 p.m. at the Cesar Chavez Communitiy Center located at 401 Golden Avenue in Long Beach, CA.

FOR FURTHER INFORMATION CONTACT: Questions regarding the scoping process or preparation of the Environmental Impact Statement/Environmental Impact Report (EIS/EIR) may be directed to Mr. Paul Rose, Chief, Environmental Resources Branch, U.S. Army Corps of Engineers, P.O. Box 532711, Los Angeles, CA, 90053-2325, (213) 452-3840.

SUPPLEMENTARY INFORMATION: 1. Proposed Action: The Corps estimates that, within the Los Angeles Region, approximately 5 million cubic meters (m³) of sediments deemed suitable for ocean disposal and 2.5 million m³ of sediments deemed unsuitable for ocean disposal will need to be dredged from the Ports and Harbors of Los Angeles County over the next 10 years. However, there is currently a lack of readily available disposal options for the unsuitable sediments. The U.S. Army Corps of Engineers, L.A. District has determined that there is a federal interest to participate in a detailed feasibility study to develop a regional dredged material management plan.

2. Alternatives: Alternatives that may be considered include: no action, upland disposal, aquatic capping, near shore confined disposal facility (California Department of Fish and Game), shallow water habitat creation, chemical stabilization, washing, blending, physical separation, thermal desorption, construction fill, landfill daily cover, reclamation fill, oil well injections, and geotextile encapsulation. These alternatives, and any additional, reasonable, alternatives recommended through the public scoping process, will be evaluated by the Corps of Engineers.

3. Scoping Process: The Corps, the Port of Los Angeles, the City of Long Beach, and the County of Los Angeles are preparing a joint EIS/EIR to address potential impacts associated with the proposed project. The Corps is the lead Federal agency for compliance with National Environmental Policy Act (NEPA) for the project, and the County of Los Angeles is the Lead State Agency for compliance with the California Environmental Quality Act (CEQA) for the non-Federal aspects of the project. The draft EIS/EIR (DEIS/EIR) document will incorporate public concerns in the analysis of impacts associated with the proposed action and associated project alternatives. The DEIS/EIR will be sent out for a 45-day public review period, during which time both written and verbal comments will be solicited on the adequacy of the document. The final EIS/EIR (FEIS/EIR) will address the comments received on the DEIS/EIR during public review, and will be furnished to all who commented on the DEIS/EIR, and is made available to anyone that requests a copy during the 30-day public comment period. The final steps involves, for the Federal EIS, preparing a record of decision (ROD) and, for the State EIR, certifying the EIR and adopting a mitigation monitoring and reporting plan. The ROD is a concise summary of the decisions made by the Corps from among the alternatives presented in the FEIS/EIR.

The ROD can be published immediately after the FEIS public comment period ends. A certified EIR indicates that the environmental document adequately assesses the environmental impacts of the proposed project with respect to CEQA. A formal scoping meeting to solicit public comment and concerns on the proposed action and alternatives will be held on Wednesday, February 26, 2003 (see DATES).

Dated: January 31, 2003.
Richard G. Thompson,
Colonel, U.S. Army, District Engineer.

[FR Doc. 03-3587 Filed 2-12-03; 8:45 am]

BILLING CODE 3710-KF-M